DEPARTMENT OF TRANSPORTATION

Surface Transportation Board

[STB Finance Docket No. 34685]

D&I Railroad Company—Trackage Rights Exemption—BNSF Railway Company

BNSF Railway Company (BNSF), pursuant to supplemental agreement Nos. 1 and No. 2 entered into between BNSF and D&I Railroad Company (D&I), has agreed to grant certain non-exclusive trackage rights to D&I over BNSF's rail line between milepost 145.91 and milepost 145.45 on BNSF's Corson Subdivision, as well as between milepost 0.0 and milepost 1.09 on BNSF's Madison Subdivision, in Sioux Falls, SD, a total distance of approximately 1.55 miles. D&I will operate its own trains with its own crews over the trackage.

The purpose of the trackage rights is to provide D&I with a route to replace trackage being removed in connection with a redevelopment project by the City of Sioux Falls.

D&I indicates that consummation of this transaction was scheduled to occur on or after April 7, 2005.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34685, must be filed with the Surface Transportation Board, 1925 K Street, NW., Washington, DC 20423-0001. In addition, a copy of each pleading must be served on Jack Parliament, P.O. Box 5829, Sioux Falls, SD 57117-5829.

Board decisions and notices are available on our Web site at http://www.stb.dot.gov.

Decided: April 12, 2005.
By the Board, David M. Konschnik, Director, Office of Proceedings.
Vernon A. Williams,
Secretary.

[FR Doc. 05-7768 Filed 4-19-05; 8:45 am]

BILLING CODE 4915-01-P